DEPARTMENT OF THE INTERIOR

National Park Service

Announcement of Subsistence Resource Commission Meeting

AGENCY: National Park Service, Interior.

ACTION: Announcement of Subsistence Resource Commission meeting.

SUMMARY: Notice is hereby given in accordance with the Federal Advisory Committee Act that a meeting of the Aniakchak National Monument Subsistence Resource Commission will be held at King Salmon, Alaska. The purpose of the meeting will be to review Federal Subsistence Board wildlife proposals and continue work on National Park Service subsistence hunting program recommendations including other related subsistence management issues. The meeting will be open to the public. Any person may file with the Commission a written statement concerning the matters to be discussed.

The Subsistence Resource Commission is authorized under Title VIII, Section 808, of the Alaska National Interest Lands Conservation Act, Pub. L. 96-487, and operates in accordance with the provisions of the Federal Advisory Committee Act.

DATES: The meeting will be held on February 25, 2004, from 9 a.m. to 4 p.m. at the COMSERFAC, FA Housing Complex in King Salmon, Alaska.

FOR FURTHER INFORMATION CONTACT: Mary McBurney, Subsistence Manager at (907) 644-3598.

SUPPLEMENTARY INFORMATION: Notice of this meeting will be published in local newspapers and announced on local radio stations prior to the meeting dates. Locations and dates may need to be changed based on weather or local circumstances.

The following agenda items will be discussed:

1. Call to Order (SRC Chair).

2. Roll Call and Confirmation of Quorum.

3. SRC Chair and Superintendent's Welcome and Introductions.

4. Review Commission Purpose and Status of Membership.

5. Review and Adopt Agenda.

6. Review and adopt minutes from last meeting.

7. Superintendent's Report.

8. Update—Review Federal Subsistence Board “ Wildlife Proposals.

9. Update—Review Federal Subsistence Board Fisheries Actions.

10. Develop Comments for Federal Subsistence Board Proposals.

11. Public and Agency Comments.

12. Set time and place of next SRC meeting.

13. Adjournment.

Draft minutes of the meeting will be available for public inspection approximately six weeks after the meeting from: Superintendent, Lake Clark National Park and Preserve, P.O. Box 4230, University Drive #311, Anchorage, AK 99508.

Dated: January 30, 2004.
Kathryn C. Collins,
Alaska Desk Officer.

[FR Doc. 04-3143 Filed 2-12-04; 8:45 am]

BILLING CODE 4312-6Y-P